DEPARTMENT OF THE INTERIOR

National Park Service

Final Environmental Impact Statement/Mountain Lakes Fishery Management Plan; North Cascades National Park Service Complex; Chelan, Skagit and Whatcom Counties, WA; Notice of Availability

SUMMARY: Pursuant to § 102(c) of the National Environmental Policy Act of 1969 (Pub. L. 91-190, as amended), the National Park Service in cooperation with the Washington State Department of Fish and Wildlife has prepared a Final Environmental Impact Statement (FEIS) and Mountain Lakes Fishery Management Plan. The FEIS identifies and evaluates proposed plan and three alternatives for management of non-native fish in the natural mountain lakes within North Cascades National Park Service Complex and the Stephen Mather Wilderness. Appropriate mitigation strategies are assessed, and an “environmentally preferred” alternative is also identified. When approved, the Mountain Lakes Fishery Management Plan (Plan) will govern all fishery management actions, including potential removal of self-sustaining populations of non-native fish and fish stocking.

Background: The National Park Service (NPS) manages North Cascades National Park, Lake Chelan National Recreation Area, and Ross Lake National Recreation Area collectively as the North Cascades National Park Service Complex (hereafter referred to as “North Cascades”). The rugged, wilderness landscape of North Cascades contains 245 natural mountain lakes which are naturally fishless due to impassable topographic barriers. Though naturally barren of fish, these lakes contain a rich array of native aquatic life including plankton, aquatic insects, frogs and salamanders. In the late 1800's, settlers began stocking lakes within the present-day boundaries of North Cascades with various species of non-native trout for food and recreation. By the 20th century, fish stocking was routinely undertaken by the U.S. Forest Service, various counties, and individuals. Then in 1933, the state of Washington assumed responsibility for stocking mountain lakes to create and maintain a recreational fishery. After North Cascades was established in 1968, a conflict over fish stocking emerged between the NPS and Washington state. This conflict derived from fundamental policy differences: NPS policies prohibited stocking so as to protect native ecosystems and Wilderness, whereas Washington policies encouraged stocking to enhance recreational opportunities.

Preferred Plan and Alternatives Considered: As the proposed Mountain Lakes Fishery Management Plan, Alternative B (agency-preferred alternative) would allow continued stocking of select lakes with a history of fish stocking. To minimize ecological risks, only trout that are native to the watershed or functionally sterile would be stocked at low densities. Self-sustaining populations of trout would be removed from all lakes (where feasible) using various methods including gillnets, electrofishing, spawning habitat exclusion, and antimycin, a potent yet ephemeral pesticide. Management actions would be monitored and evaluated to enable adaptive management and minimize impacts to biological integrity. Implementation of this Alternative would require clarification from Congress regarding fish stocking in North Cascades and the Stephen Mather Wilderness.

The “no action” alternative (Alternative A) would continue fishery management according to the terms and conditions of the 1988 Supplemental Agreement with the Washington Department of Fish and Wildlife (WDFW). This agreement provides for continued stocking of select lakes in North Cascades National Park. Implementation of this alternative would require clarification from Congress regarding fish stocking in the North Cascades and Stephen Mather Wilderness.

Alternative C would include continued fish stocking in select lakes in Ross Lake National Recreation Area and Lake Chelan National Recreation Area; stocking would be discontinued in North Cascades National Park. Otherwise, the adaptive management framework for this alternative would be similar to Alternative B. Implementation of Alternative C would require clarification from Congress regarding continued fish stocking in the Stephen Mather Wilderness.

Alternative D would discontinue fish stocking in all mountain lakes in North Cascades Complex. This alternative would implement a long-term goal of removing, wherever feasible, self-sustaining populations of non-native trout in up to 37 lakes using the removal methods described for Alternative B.

Public Involvement: The public scoping phase formally began January 16, 2003, with the NPS publication of a Notice of Intent to prepare an EIS for a high mountain lakes fishery management plan. Extensive local and regional publicity and distribution of public scoping brochures occurred during February-March 2003. In late March 2003, the four public scoping meetings were hosted in the surrounding communities of Sedro-Woolley, Wenatchee, Bellevue and Seattle. The NPS received 248 comments during the public scoping phase; a public scoping report was prepared and posted on the project Web site (see below). The EPA's notice of filing of the Draft EIS was published in the Federal Register by the EPA on May 27, 2005; the park's notice of availability was published on May 31, 2005. The 90-day opportunity for public review and comment extended through August 26, 2005. Four public meetings were hosted in surrounding communities during the week of July 25-28, 2005. Ninety individuals and organizations provided 350 substantive comments both for and against continued stocking.

SUPPLEMENTARY INFORMATION: Electronic copies of the final document will be available online at http://parkplanning.nps.gov/noca. Bound printed copies will be available for public review at the North Cascades Headquarters Office, 810 State Route 20, Sedro-Woolley, Washington 98284; and at the Seattle, Wenatchee, Chelan and Bellingham public libraries. For further information or to request copies of the document, contact Mr. Roy Zipp, Environmental Protection Specialist, 810 State Route 20, Sedro-Woolley, WA 98284; (360) 854-7313.

Decision Process: Following careful consideration of all public and agency comments received on the Draft EIS/Plan, the NPS in cooperation with Washington Department of Fish and Wildlife has completed the Final Mountain Lakes Fishery Management Plan/Final Environmental Impact Statement. Not sooner than 30 days after notice of release of the Final EIS is published in the Federal Register by the U.S. Environmental Protection Agency, a Record of Decision will be prepared by the NPS. As a delegated EIS, the official responsible for the final decision is the Regional Director, Pacific West Region; subsequently, the official responsible for implementation will be the Superintendent, North Cascades National Park Service Complex.

Dated: March 5, 2008.
Patricia L. Neubacher,
Acting Regional Director, Pacific West Region.

Editorial Note: This document was received in the Office of the Federal Register on July 18, 2008.

[FR Doc. E8-16887 Filed 7-22-08; 8:45 am]

BILLING CODE 4312-HJ-P